DEPARTMENT OF JUSTICE

Notice of Lodging of Proposed Consent Decree Under the Comprehensive Environmental Response, Compensation, and Liability Act; and Federal Debt Collection Procedures Act

On January 10, 2018, the Department of Justice lodged a proposed Consent Decree with the United States District Court for the Central District of California in the lawsuit entitled United States and California Department of Toxic Substances Control v. Jervis B. Webb Company and Jervis B. Webb Company of California, Civil Action No. 2:18-cv-234-ODW-JEM.

The United States and the California Department of Toxic Substances Control filed this lawsuit asserting a claim under the Comprehensive Environmental Response, Compensation, and Liability Act (CERCLA) against the Jervis B. Webb Company of California (Webb-Cal) to recover costs incurred and to be incurred by the United States and the State of California in response to releases of hazardous substances at the Jervis Webb Superfund Site in South Gate, California (the “Site”). The United States also asserted a claim against the Jervis B. Webb Company (JBW), parent company of Webb-Cal, under the Federal Debt Collections Procedures Act (“FDCPA”) to recover assets transferred by Webb-Cal to JBW at a time when Webb-Cal was insolvent and indebted to the United States under CERCLA. Under the proposed Consent Decree, JBW will pay $3.45 million to the United States to resolve the claims of the United States. In exchange for this payment, both JBW and Webb-Cal will receive site-wide covenants not to sue and contribution protection under CERCLA, and JBW will receive a covenant not to sue for fraudulent conveyance under the FDCPA. Under this Consent Decree, California DTSC will receive $50,000 from JBW to resolve its claim under CERCLA against Webb-Cal.

The publication of this notice opens a period for public comment on the Consent Decree. Comments should be addressed to the Assistant Attorney General, Environment and Natural Resources Division, and should refer to United States and California Department of Toxic Substances Control v. Jervis B. Webb Company and Jervis B. Webb Company of California, D.J. Ref. No. 90-11-3-10965. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $8.00 (25 cents per page reproduction cost) payable to the United States Treasury.

Henry Friedman,
Assistant Section Chief, Environmental Enforcement Section, Environment and Natural Resources Division.

[FR Doc. 2018-00822 Filed 1-18-18; 8:45 am]

BILLING CODE 4410-15-P